DEPARTMENT OF HEALTH AND HUMAN SERVICES

National Institutes of Health

Nominations to the Report on Carcinogens and Office of Health Assessment and Translation; Request for Information; Amended Notice

SUMMARY: This notice amends Federal Register notice 80 FR 60692, published October 7, 2015, requesting information on nominations to the Report on Carcinogens and Office of Health Assessment and Translation. The correct CASRN for vinylidene chloride is 75-35-4. All other information in the original notice has not changed. Information on nominations is available at http://ntp.niehs.nih.gov/go/rocnom and http://ntp.niehs.nih.gov/go/763346.

DATES: Deadline for receipt of information is November 6, 2015.

Dated: October 7, 2015.
John R. Bucher,
Associate Director, National Toxicology Program.

[FR Doc. 2015-26054 Filed 10-13-15; 8:45 am]

BILLING CODE 4140-01-P